DEPARTMENT OF HEALTH AND HUMAN SERVICES

Health Care Financing Administration

[Document Identifier: HCFA-10011]

Emergency Clearance: Public Information Collection Requirements Submitted to the Office of Management and Budget (OMB)

AGENCY: Health Care Financing Administration, HHS.

In compliance with the requirement of section 3506(c)(2)(A) of the Paperwork Reduction Act of 1995, the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the Information collections referenced below. In compliance with the requirement of section 3506(c)(2)(A) of the Paperwork Reduction Act of 1995, we have submitted to the Office of Management and Budget (OMB) the following requirements for emergency review. We are requesting an emergency review because of legislative mandate, Government Performance and Review Act (GPRA) goals, and the potential for public harm. In terms of legislation, the 1997 Balanced Budget Act requires HCFA to offer comparative health plan information for the purposes of “informed choice.” In addition, two of the clearly stated goals of the HCFA strategic plan are to “purchase the best value health care for beneficiaries” and to “promote beneficiary and public understanding of HCFA and its programs.”

The improved awareness by beneficiaries of the Medicare program has been incorporated into HCFA's Government Performance and Review Act (GPRA) goals (See: “Performance Goal M+C1-02: Improve Effectiveness of Dissemination of Medicare Information to Beneficiaries”). Recent analyses of the Medicare Beneficiary Survey data suggest that stage of readiness to make informed choice, which the Pro-Change Behavior Systems Survey will yield, will be a better predictor of knowledge about Medicare than other extant predictors (See: “Assessing Readiness of Medicare Beneficiaries to Participate in Informed Health Care Choices”). Expediting the clearance of this survey would help HCFA fulfill the goals of HCFA's Government Performance and Review Act (GPRA) as soon as possible.

In addition to the legislative mandate and GPRA, the survey should be expedited to prevent public harm. Recent research conducted by the contractor, Pro-Change Behavior Systems, Inc., has demonstrated that the Medicare beneficiary population contains many who fail to review the adequacy of their health insurance arrangements even on a cursory basis (See: “Assessing Readiness of Medicare Beneficiaries to Participate in Informed Health Care Choices”). Unless we are able to identify those individuals and target appropriate outreach and communications strategies to prompt more attention to information about health care choices, at least some beneficiaries will find themselves with inadequate or inappropriate health insurance and may find themselves harmed as a result.

HCFA is requesting OMB review and approval of this collection by September 30, 2000, with a 180-day approval period. Written comments and recommendations will be accepted from the public if received by the individuals designated below by September 26, 2000. During this 180-day period, we will publish a separate Federal Register notice announcing the initiation of an extensive 60-day agency review and public comment period on these requirements. We will submit the requirements for OMB review and an extension of this emergency approval.

Type of Information Collection Request: New collection;

Title of Information Collection: Stages of Change Survey for Informed Choice in the Medicare Population;

Form No.: HCFA-10011 (OMB# 0938-NEW);

Use: This is a survey of Medicare beneficiaries in the first step in the application the Transtheoretical Model (the “stage model”) to informed choice in the Medicare population. The Transtheoretical Model has been applied and proven effective in facilitating behavior change in a wide range of health behaviors including smoking cessation, mammography screening, and safe sex. This work will yield psychometrically sound and externally valid measures of beneficiaries' readiness to make informed choices about health plans, and provide information to HCFA to assist with its national educational campaign to inform beneficiaries about their choices. Stages of Change measures will be administered to 560 Medicare beneficiaries and initial enrollees. This survey research will yield psychometrically sound measures of beneficiaries' readiness to make informed choices about health plans, and provide information to guide HCFA's National Medicare Education Program (NMEP).;

Frequency: Other: One-time survey;

Affected Public: Individuals or households;

Number of Respondents: 560;

Total Annual Responses: 560;

Total Annual Hours: 327.

To obtain copies of the supporting statement and any related forms for the proposed paperwork collections referenced above, access HCFA's Web Site address at http://www.hcfa.gov/regs/prdact95.htm, or E-mail your request, including your address, phone number, to Paperwork@hcfa.gov, or call the Reports Clearance Office on (410) 786-1326.

Interested persons are invited to send comments regarding the burden or any other aspect of these collections of Information requirements. However, as noted above, comments on these Information collection and recordkeeping requirements must be mailed and/or faxed to the designees referenced below, by September 26, 2000:

Health Care Financing Administration, Office of Information Services, Security and Standards Group, Division of HCFA Enterprise Standards Attention: Dawn Willinghan (HCFA-10011), Room N2-14-26, 7500 Security Boulevard, Baltimore, Maryland 21244-1850

and

Office of Information and Regulatory Affairs, Office of Management and Budget, Room 10235, New Executive Office Building, Washington, DC 20503, Fax Number: (202) 395-6974 or (202) 395-5167 Attn: Allison Herron Eydt, HCFA Desk Officer.

Dated: September 28, 2000.
John P. Burke III,
HCFA Reports Clearance Officer, HCFA Office of Information Services, Security and Standards Group, Division of HCFA Enterprise Standards.

[FR Doc. 00-23022 Filed 9-7-00; 8:45 am]

BILLING CODE 4120-03-U